DEPARTMENT OF HEALTH AND HUMAN SERVICES

Food and Drug Administration

[Docket No. 02N-0201]

Minimizing Medication Errors—Methods for Evaluating Proprietary Names for Their Confusion Potential; Public Meeting; Correction

AGENCY: Food and Drug Administration, HHS.

ACTION: Notice of public meeting; correction.

SUMMARY: The Food and Drug Administration (FDA) is correcting a notice that appeared in the Federal Register of May 30, 2003 (68 FR 32529). The document announced a public meeting to explore current methods being used to evaluate proprietary drug names to reduce medication errors due to similarity in drug names. The document published with inadvertent errors. This document corrects those errors.

FOR FURTHER INFORMATION CONTACT: Joyce Strong, Office of Policy and Planning (HF-27), Food and Drug Administration, 5600 Fishers Lane, Rockville, MD 20857, 301-827-7010.

SUPPLEMENTARY INFORMATION: In FR Doc. 03-13591, appearing on page 32529 in the Federal Register of Friday, May 30, 2003, the following corrections are made:

1. On page 32530, in the first column, under “For Further Information Contact”, in the second paragraph, “202-835-3533” is corrected to read “202-572-7751”.

2. On page 32530, in the third column, the first full sentence is corrected to read “Speakers who wish to participate in the open public meeting must register by June 13, 2003.”

3. On page 32530, in the third column, under section III, the first sentence is corrected to read “To speak at the meeting, you must preregister by June 13, 2003.”

Dated: June 9, 2003.
Jeffrey Shuren,
Assistant Commissioner for Policy.

[FR Doc. 03-15058 Filed 6-13-03; 8:45 am]

BILLING CODE 4160-01-S